DEPARTMENT OF ENERGY

Federal Energy Regulatory Commission

Combined Notice of Filings #1

Take notice that the Commission received the following electric corporate filings:

Docket Numbers: EC23-121-000.

Applicants: Elgin Energy Center, LLC, Rocky Road Power, LLC, Ricochet Power, LLC.

Description: Joint Application for Authorization Under Section 203 of the Federal Power Act of Elgin Energy Center, LLC, et al.

Filed Date: 8/14/23.

Accession Number: 20230814-5263.

Comment Date: 5 p.m. ET 9/5/23.

Docket Numbers: EC23-122-000.

Applicants: Elgin Energy Center, LLC, Rocky Road Power, LLC, Middle River Power VI LLC, Middle River Power VII LLC.

Description: Joint Application for Authorization Under Section 203 of the Federal Power Act of Elgin Energy Center, LLC.

Filed Date: 8/14/23.

Accession Number: 20230814-5265.

Comment Date: 5 p.m. ET 9/28/23.

Take notice that the Commission received the following exempt wholesale generator filings:

Docket Numbers: EG23-257-000.

Applicants: Hardy Hills Solar Energy LLC.

Description: Hardy Hills Solar Energy LLC submits Notice of Self-Certification of Exempt Wholesale Generator Status.

Filed Date: 8/15/23.

Accession Number: 20230815-5027.

Comment Date: 5 p.m. ET 9/5/23.

Docket Numbers: EG23-258-000.

Applicants: Grover Hill Wind, LLC.

Description: Grover Hill Wind, LLC submits Notice of Self-Certification of Exempt Wholesale Generator Status.

Filed Date: 8/15/23.

Accession Number: 20230815-5044.

Comment Date: 5 p.m. ET 9/5/23.

Take notice that the Commission received the following electric rate filings:

Docket Numbers: ER18-99-009.

Applicants: Southwest Power Pool, Inc.

Description: Compliance filing: South Central MCN LLC Amended Compliance Filing Pursuant to Order Issued to be effective 4/1/2018.

Filed Date: 8/15/23.

Accession Number: 20230815-5115.

Comment Date: 5 p.m. ET 9/5/23.

Docket Numbers: ER19-69-001.

Applicants: Rockland Wind Farm LLC.

Description: Compliance filing: Rockland Wind Farm LLC Revised MBR Tariff to be effective 8/16/2023.

Filed Date: 8/15/23.

Accession Number: 20230815-5072.

Comment Date: 5 p.m. ET 9/5/23.

Docket Numbers: ER23-2526-000.

Applicants: GreenStruxure LOR008, LLC.

Description: Supplement to July 31, 2023, GreenStruxure LOR008, LLC tariff filing.

Filed Date: 8/9/23.

Accession Number: 20230809-5193.

Comment Date: 5 p.m. ET 8/30/23.

Docket Numbers: ER23-2622-000.

Applicants: PJM Interconnection, L.L.C.

Description: § 205(d) Rate Filing: First Revised ISA, Service Agreement No. 6842; Queue No. AF2-134 to be effective 7/14/2023.

Filed Date: 8/14/23.

Accession Number: 20230814-5180.

Comment Date: 5 p.m. ET 9/5/23.

Docket Numbers: ER23-2623-000.

Applicants: Puget Sound Energy, Inc.

Description: § 205(d) Rate Filing: 2nd Amendment to IA and NITS between PSE and Boeing to be effective 7/31/2023.

Filed Date: 8/15/23.

Accession Number: 20230815-5002.

Comment Date: 5 p.m. ET 9/5/23.

Docket Numbers: ER23-2624-000.

Applicants: American Electric Power Service Corporation, Ohio Power Company, AEP Ohio Transmission Company, Inc., PJM Interconnection, L.L.C.

Description: § 205(d) Rate Filing: American Electric Power Service Corporation submits tariff filing per 35.13(a)(2)(iii: AEP submits two Facilities Agreements re: ILDSA, SA No. 1336 to be effective 10/16/2023.

Filed Date: 8/15/23.

Accession Number: 20230815-5073.

Comment Date: 5 p.m. ET 9/5/23.

Docket Numbers: ER23-2625-000.

Applicants: NRG Business Marketing LLC.

Description: § 205(d) Rate Filing: Notice of Succession and Request for Waiver to be effective 8/1/2023.

Filed Date: 8/15/23.

Accession Number: 20230815-5076.

Comment Date: 5 p.m. ET 9/5/23.

Docket Numbers: ER23-2626-000.

Applicants: NRG Power Marketing LLC.

Description: Tariff Amendment: Notice of Cancellation and Request for Waiver to be effective 8/1/2023.

Filed Date: 8/15/23.

Accession Number: 20230815-5079.

Comment Date: 5 p.m. ET 9/5/23.

Docket Numbers: ER23-2627-000.

Applicants: Northwest Iowa Power Cooperative.

Description: Annual Informational Attachment H filing of Northwest Iowa Power Cooperative.

Filed Date: 8/15/23.

Accession Number: 20230815-5100.

Comment Date: 5 p.m. ET 9/5/23.

Docket Numbers: ER23-2628-000.

Applicants: Duke Energy Florida, LLC.

Description: § 205(d) Rate Filing: DEF-Bartow Amended and Restated NITSA SA 145 to be effective 11/1/2023.

Filed Date: 8/15/23.

Accession Number: 20230815-5101.

Comment Date: 5 p.m. ET 9/5/23.

Docket Numbers: ER23-2629-000.

Applicants: High Banks Wind, LLC.

Description: Baseline eTariff Filing: High Banks Wind, LLC Application for Market-Based Rate Authorization to be effective 10/1/2023.

Filed Date: 8/15/23.

Accession Number: 20230815-5104.

Comment Date: 5 p.m. ET 9/5/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 15, 2023.
Debbie-Anne A. Reese,
Deputy Secretary.

[FR Doc. 2023-17901 Filed 8-18-23; 8:45 am]

BILLING CODE 6717-01-P